DEPARTMENT OF TRANSPORTATION

Federal Aviation Administration

Notice of Intent To Rule on Disposal of Aeronautical Property at Cincinnati/Northern Kentucky International Airport, Hebron, KY (CVG)

AGENCY: Federal Aviation Administration (FAA), DOT.

ACTION: Notice.

SUMMARY: The Federal Aviation Administration is requesting public comment on a request by Kenton County Airport Board, to release of land (4.44 acres) at Cincinnati/Northern Kentucky International Airport from federal obligations.

DATES: Comments must be received on or before July 30, 2021.

ADDRESSES: Comments on this notice may be emailed to the FAA at the following email address: FAA/Memphis Airports District Office, Attn: Jamal Stovall, Community Planner, Jamal.Stovall@faa.gov.

In addition, one copy of any comments submitted to the FAA must be mailed or delivered to Ms. Candace S. McGraw, CEO, Kenton County Airport Board at the following address: 77 Comair Blvd., Erlanger, KY 41018.

FOR FURTHER INFORMATION CONTACT: Jamal Stovall, Community Planner, Federal Aviation Administration, Memphis Airports District Office, 2600, Thousand Oaks Boulevard, Suite 2250, Memphis, TN 38118-2482, Jamal.Stovall@faa.gov, (901) 322-8185. The application may be reviewed in person at this same location, by appointment.

SUPPLEMENTARY INFORMATION: The FAA proposes to rule and invites public comment on the request to release property for disposal at Cincinnati/Northern Kentucky International Airport, 2939 Terminal Drive, Hebron, KY 41048, under the provisions of 49 U.S.C. 47107(h)(2). The FAA determined that the request to release property at Cincinnati/Northern Kentucky International Airport (CVG) submitted by the Sponsor meets the procedural requirements of the Federal Aviation Administration and the release of these properties does not and will not impact future aviation needs at the airport. The FAA may approve the request, in whole or in part, no sooner than thirty days after the publication of this notice.

The request consists of the following:

The Kenton County Airport Board is proposing the release of airport property totaling 4.44 acres, more or less. The Kenton County Airport Board proposes to sell six parcels of airport land totaling 6.032 acres located on the northwest side of CVG along Petersburg Road, KY20 in Boone County, Kentucky. Three of the six parcels (referenced on the current Exhibit A as 8013 Lot 14, 8077 Lot 15, and 8088 Lots 17&18) were purchased with Airport Improvement Plan (AIP) funds and are subject to this release. The three aforementioned AIP funded parcels account for approximately 4.44 acres of the 6.032 acres being sold by the Board. The future use of the property is an access road for an industrial development to the north of the subject parcels. Portions of the parcels were previously exchanged with the State of Kentucky as part of the relocation of Petersburg Road, KY 20 during the construction of Runway 18R/36L. The release of land is necessary to comply with Federal Aviation Administration Grant Assurances that do not allow federally acquired airport property to be used for non-aviation purposes. The sale of the subject property will result in the land at Cincinnati/Northern Kentucky International Airport (CVG) being changed from aeronautical to non-aeronautical use and release the lands from the conditions of the Airport Improvement Program Grant Agreement Grant Assurances. In accordance with 49 U.S.C. 47107(c)(2)(B)(i) and (iii), the airport will receive fair market value for the property, which will be subsequently reinvested in another eligible airport improvement project for aviation facilities at CVG. The proposed use of this property is compatible with airport operations.

This request will release this property from federal obligations. This action is taken under the provisions of 49 U.S.C. 47107(h)(2).

Any person may inspect the request in person at the FAA office listed above under FOR FURTHER INFORMATION CONTACT.

In addition, any person may, upon request, inspect the request, notice and other documents germane to the request in person at the Cincinnati/Northern Kentucky International Airport.

Issued in Memphis, Tennessee, on June 24, 2021.
Duane Leland Johnson,
Assistant Manager, Memphis Airports District Office, Southern Region.

[FR Doc. 2021-13981 Filed 6-29-21; 8:45 am]

BILLING CODE 4910-13-P